SURFACE TRANSPORTATION BOARD

[Docket No. FD 36718]

East Chattanooga Belt Railway Company, LLC—Acquisition and Operation Exemption—Norfolk Southern Railway Company

East Chattanooga Belt Railway Company, LLC (ECTB), a Class III carrier, has filed a verified notice of exemption under 49 CFR 1150.41, to lease from Norfolk Southern Railway Company (NSR) and to operate approximately 0.24 miles of rail line extending between milepost C448 in the vicinity of CP 23rd Street and milepost C447.7, a point roughly 100 feet south of the southernmost bridge abutment of a bridge over Dobbs Branch, also known as Spring Branch (the Line).¹

¹ ECTB notes that, mileposts notwithstanding, the distance between the terminal points of the lease has been calculated to be approximately 1,250 feet, which equates to 0.24 miles, not 0.3 miles.

According to ECTB, it has reached an agreement with NSR to supplement the terms of an original lease between them, dated April 1, 2001.² ECTB states that the supplemental agreement expands its leasehold interest by extending to it the right to operate over and the obligation to maintain the Line, which is proximate to a line that ECTB currently operates pursuant to the original lease agreement. According to ECTB, it will obtain the right to conduct overhead operations over the Line and NSR will retain the obligation to provide local service on the Line in the event any such service demand emerges.

² See E. Chattanooga Belt Ry.—Acquis. & Operation Exemption—Norfolk S. Ry., FD 34024 (STB served Apr. 10, 2001).

ECTB certifies that its anticipated annual freight common carrier revenues following consummation of the proposed transaction will qualify it as a Class III carrier and will not exceed $5 million. ECTB also certifies that the agreements do not contain any provision that would limit ECTB's ability to interchange traffic with any third-party connecting carrier.

The transaction may be consummated on or after September 14, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 7, 2023 (at least seven days before the exemption becomes effective).

All pleadings, referring to Docket No. FD 36718, must be filed with the Surface Transportation Board either via e-filing on the Board's website or in writing addressed to 395 E Street SW, Washington, DC 20423-0001. In addition, a copy of each pleading must be served on ECTB's representative, Robert A. Wimbish, Fletcher & Sippel LLC, 29 North Wacker Drive, Suite 800, Chicago, IL 60606-3268.

According to ECTB, this action is categorically excluded from environmental review under 49 CFR 1105.6(c) and from historic preservation reporting requirements under 49 CFR 1105.8(b).

Board decisions and notices are available at www.stb.gov.

Decided: August 28, 2023.
By the Board, Mai T. Dinh, Director, Office of Proceedings.
Kenyatta Clay,
Clearance Clerk.

[FR Doc. 2023-18861 Filed 8-30-23; 8:45 am]

BILLING CODE 4915-01-P